DEPARTMENT OF COMMERCE

International Trade Administration

[A-570-977, C-570-978]

High Pressure Steel Cylinders From the People's Republic of China: Final Results of Sunset Reviews and Revocation of Orders

AGENCY: Enforcement and Compliance, International Trade Administration, Department of Commerce.

SUMMARY: On November 1, 2022, the U.S. Department of Commerce (Commerce) initiated the second sunset reviews of the antidumping duty (AD) and countervailing duty (CVD) orders on high pressure steel cylinders (HPSC) from the People's Republic of China (China). Because no domestic interested party responded to the sunset review notice of initiation by the applicable deadline, consistent with the Tariff Act of 1930, as amended (the Act), Commerce is revoking the AD and CVD orders on HPSC from China.

DATES: Applicable January 20, 2023.

FOR FURTHER INFORMATION CONTACT: Mary Kolberg, AD/CVD Operations, Office I, Enforcement and Compliance, International Trade Administration, U.S. Department of Commerce, 1401 Constitution Avenue NW, Washington, DC 20230; telephone: (202) 482-1785.

SUPPLEMENTARY INFORMATION:

Background

On June 21, 2012, Commerce issued the AD and CVD orders on HPSC from China.¹ On December 5, 2017, Commerce published the most recent continuation of the Orders.² On November 1, 2022, Commerce initiated the current sunset reviews of the Orders pursuant to section 751(c) of the Act.³

¹ See High Pressure Steel Cylinders from the People's Republic of China: Antidumping Duty Order, 77 FR 37377 (June 21, 2012); and High Pressure Steel Cylinders from the People's Republic of China: Countervailing Duty Order, 77 FR 37384 (June 21, 2012) (collectively, Orders).

² See High Pressure Steel Cylinders from the People's Republic of China: Continuation of Antidumping Duty and Countervailing Duty Orders, 82 FR 57427 (December 5, 2017) (2017 Continuation Notice).

³ See Initiation of Five-Year (Sunset) Reviews, 87 FR 65746 (November 1, 2022).

We did not receive a timely notice to participate in these sunset reviews from any domestic interested party, pursuant to 19 CFR 351.218(d)(1)(i). As a result, consistent with 19 CFR 351.218(d)(1)(iii)(B)(1), Commerce “{concluded} that no domestic interested party has responded to the notice of initiation under section 751(c)(3)(A) of the Act,” and notified the U.S. International Trade Commission in writing as such pursuant to 19 CFR 351.218(d)(1)(iii)(B)(2).⁴

⁴ See Commerce's Letter, “Sunset Reviews Initiated on November 1, 2022,” dated November 25, 2022.

Scope of the Orders

The merchandise covered by the scope of the Orders is seamless steel cylinders designed for storage or transport of compressed or liquefied gas (high pressure steel cylinders). High pressure steel cylinders are fabricated of chrome alloy steel including, but not limited to, chromium-molybdenum steel or chromium magnesium steel, and have permanently impressed into the steel, either before or after importation, the symbol of a U.S. Department of Transportation, Pipeline and Hazardous Materials Safety Administration (DOT)-approved high pressure steel cylinder manufacturer, as well as an approved DOT type marking of DOT 3A, 3AX, 3AA, 3AAX, 3B, 3E, 3HT, 3T, or DOT-E (followed by a specific exemption number) in accordance with the requirements of sections 178.36 through 178.68 of Title 49 of the Code of Federal Regulations, or any subsequent amendments thereof. High pressure steel cylinders covered by the Order have a water capacity up to 450 liters, and a gas capacity ranging from 8 to 702 cubic feet, regardless of corresponding service pressure levels and regardless of physical dimensions, finish or coatings.

Excluded from the scope of the Order are high pressure steel cylinders manufactured to UN-ISO-9809-1 and 2 specifications and permanently impressed with ISO or UN symbols. Also excluded from the Order are acetylene cylinders, with or without internal porous mass, and permanently impressed with 8A or 8AL in accordance with DOT regulations.

Merchandise covered by the Order is classified in the Harmonized Tariff Schedule of the United States (HTSUS) under subheading 7311.00.00.30. Subject merchandise may also enter under HTSUS subheadings 7311.00.00.60 or 7311.00.00.90. Although the HTSUS subheadings are provided for convenience and customs purposes, the written description of the merchandise under the Order is dispositive.

Revocation

Pursuant to section 751(c)(3)(A) of the Act, “{i}f no interested party responds to the notice of initiation . . . {Commerce} shall issue a final determination . . . revoking the order.” Because no domestic interested parties responded to the notice of initiation in these segments of the proceeding, Commerce is revoking the Orders.

Effective Date of Revocation

Pursuant to section 751(c)(3)(A) of the Act and 19 CFR 351.222(i)(2)(i), Commerce intends to instruct U.S. Customs and Border Protection to terminate the suspension of liquidation of the merchandise subject to these Orders entered, or withdrawn from the warehouse, on or after December 5, 2022, the fifth anniversary of the date of publication of the last continuation notice.⁵ Entries of subject merchandise prior to the effective date of revocation will continue to be subject to suspension of liquidation and AD and CVD deposit requirements. Commerce may conduct administrative reviews of subject merchandise entered prior to the effective date of revocation in response to appropriately filed requests for review.

⁵ See 2017 Continuation Notice, 82 FR at 57428.

Notification to Interested Parties

We are issuing and publishing this notice in accordance with sections 751(c) and 777(i)(1) of the Act, and 19 CFR 351.218(f)(4) and 351.222(i)(1)(i).

Dated: January 13, 2023.
Lisa W. Wang,
Assistant Secretary for Enforcement and Compliance.

[FR Doc. 2023-01084 Filed 1-19-23; 8:45 am]

BILLING CODE 3510-DS-P